DEPARTMENT OF THE INTERIOR

Fish and Wildlife Service

[Docket No. FWS-HQ-IA-2017-0031; FXIA16710900000-178-FF09A30000]

Endangered Species; Marine Mammals; Receipt of Applications for Permit

AGENCY: Fish and Wildlife Service, Interior.

ACTION: Notice of receipt of applications for permit.

SUMMARY: We, the U.S. Fish and Wildlife Service, invite the public to comment on applications to conduct certain activities with endangered species. With some exceptions, the Endangered Species Act ESA prohibits activities with listed species unless Federal authorization is acquired that allows such activities.

DATES: We must receive comments or requests for documents on or before June 26, 2017.

ADDRESSES: Submitting Comments: You may submit comments by one of the following methods:

• Federal eRulemaking Portal: http://www.regulations.gov. Follow the instructions for submitting comments on Docket No. FWS-HQ-IA-2017-0031.

• U.S. mail or hand-delivery: Public Comments Processing, Attn: Docket No. FWS-HQ-IA-2017-0031; U.S. Fish and Wildlife Service Headquarters, MS: BPHC; 5275 Leesburg Pike, Falls Church, VA 22041-3803.

When submitting comments, please indicate the name of the applicant and the PRT# you are commenting on. We will post all comments on http://www.regulations.gov. This generally means that we will post any personal information you provide us (see the Public Comments section for more information).

Viewing Comments: Comments and materials we receive will be available for public inspection on http://www.regulations.gov, or by appointment, between 8 a.m. and 4 p.m., Monday through Friday, except Federal holidays, at the U.S. Fish and Wildlife Service, Division of Management Authority, 5275 Leesburg Pike, Falls Church, VA 22041-3803; telephone 703-358-2095.

FOR FURTHER INFORMATION CONTACT: Joyce Russell, Government Information Specialist, Division of Management Authority, U.S. Fish and Wildlife Service Headquarters, MS: IA; 5275 Leesburg Pike, Falls Church, VA 22041-3803; telephone 703-358-2023; facsimile 703-358-2280.

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; Jan. 26, 2009), which call on all Federal agencies to promote openness and transparency in Government by disclosing information to the public, we invite public comment on these permit applications before final action is taken.

III. Permit Applications

A. Endangered Species

We invite the public to comment on applications to conduct certain activities with endangered species. With some exceptions, the Endangered Species Act (16 U.S.C. 1531 et seq.; ESA) prohibits activities with listed species unless Federal authorization is acquired that allows such activities.

Applicant: Feld Entertainment, Inc., Palmetto, FL; PRT-22685C

The applicant requests a permit to re-export eight captive-born tigers (Panthera tigris) to enhance the propagation or survival of the species to Alexander Lacey c/o Zirkus Krone, Munchen, Germany. This notification covers activities to be conducted by the applicant over a 5-year period.

Applicant: International Elephant Foundation c/o Fort Worth Zoo, Fort Worth, TX; PRT-09806C

The applicant requests authorization to import biological samples from African elephants (Loxodonta africana) and Asian elephant (Elephas maximus) from various countries for the purpose of scientific research. This notification covers activities to be conducted by the applicant over a 5-year period.

Applicant: Priour Brothers Ranch, Ingram, TX; PRT-707102

The applicant requests a permit to authorize interstate commerce, export, and cull of excess barasingha (Rucervus duvauceli), Eld's deer (Rucervus eldii), Arabian oryx (Oryx leucoryx), and red lechwe (Kobus leche) in captive herds maintained at their facility in both Mountain Home and Kerrville, Texas, to enhance the propagation or survival of the species. This notification covers activities to be conducted by the applicant over a 5-year period.

Applicant: Carson Springs Wildlife Foundation, Gainesville, Florida PRT-56870A

The applicant requests a captive-bred wildlife registration under 50 CFR 17.21(g) for the following species, to enhance the propagation or survival of the species: Ring-tailed lemur (Lemur catta), black and white ruffed lemur (Varecia variegata), red ruffed lemur (Varecia rubra), black lemur (Eulemur macaco), leopard (Panthera pardus), snow leopard (Uncia uncia), cheetah (Acinonyx jubatus), Grevy's zebra (Equus grevyi), scimitar-horned oryx, (Oryx dammah), addax (Addax nasomaculatus), dama gazelle (Nanger dama), red lechwe (Kobus leche), Galapagos tortoise (Chelonoidis nigra), and radiated tortoise (Astrochelys radiata). This notification covers activities to be conducted by the applicant over a 5-year period.

Applicant: Kenneth D. Sheaff, Yardley, PA; PRT-03362C

The applicant requests a captive-bred wildlife registration under 50 CFR 17.21(g) for radiated tortoise (Astrochelys radiata) to enhance the propagation or survival of the species. This notification covers activities to be conducted by the applicant over a 5-year period.

Applicant: Priour Brothers Ranch; PRT-672849

The applicant requests a captive-bred wildlife registration under 50 CFR 17.21(g) for barasingha (Rucervus duvauceli), Eld's brow-antlered deer (Rucervus eldi), Arabian oryx (Oryx leucoryx), and red lechwe (Kobus leche) to enhance the propagation or survival of the species. This notification covers activities to be conducted by the applicant over a 5-year period.

Applicant: NH&S Holdings, LLC, Valley Mills, TX; 64164A

The applicant requests a captive-bred wildlife registration under 50 CFR 17.21(g) for scimitar-horned oryx (Oryx dammah) and red lechwe (Kobus leche), to enhance the propagation or survival of the species. This notification covers activities to be conducted by the applicant over a 5-year period.

Applicant: University of Wisconsin-Madison, Madison, WI; PRT-18137C

The applicant requests a permit to import eastern gorilla (Gorilla beringei) serum collected from wild animals in Rwanda for the purpose of scientific research.

Applicant: Zoological Society of San Diego, San Diego, CA; PRT-50819A

The applicant requests a renewal of their permit to export and reimport nonliving museum specimens of endangered and threatened species previously accessioned into the applicant's collection for scientific research. This notification covers activities to be conducted by the applicant over a 5-year period.

Applicant: Zoological Society of San Diego, San Diego, CA; PRT-27097C

The applicant requests a permit to import one Fiji banded iguana (Brachylophus fasciatus) from the Ministry of the Environment and Sustainable Development, Buenos Aires, Argentina, for the purpose of enhancing the propagation or survival of the species under the managed work of the Species Survival Program.

Applicant: Cleveland Metroparks Zoo, Cleveland, OH; PRT-14745C

The applicant requests a permit to import samples for captive-bred Persian onager (Equus hemionus onager) to enhance the propagation or survival of the species. This notification covers activities to be conducted by the applicant over a 5-year period

Applicant: Hugh Nguyen, Morgan Hill, CA; PRT-12447C

The applicant requests a captive-bred wildlife registration under 50 CFR 17.21(g) for the golden parakeet (Guarouba guarouba) to enhance the propagation or survival of the species. This notification covers activities to be conducted by the applicant over a 5-year period.

Applicant: Michael Ryckman, Painted Post, NY; PRT-75285A

The applicant requests a renewal for a captive-bred wildlife registration under 50 CFR 17.21(g) for radiated tortoise (Astrochelys radiata) to enhance the propagation or survival of the species. This notification covers activities to be conducted by the applicant over a 5-year period.

Applicant: KJC Holdings, Valley Spring, TX; PRT-200207

The applicant requests a renewal of a captive-bred wildlife registration under 50 CFR 17.21(g) for barasingha (Rucervus duvaucelii), to enhance the propagation or survival of the species. This notification covers activities to be conducted by the applicant over a 5-year period.

Multiple Applicants: The following applicants each request authorization to import the sport-hunted trophy of one male bontebok (Damaliscus pygargus pygargus) culled from a captive herd maintained under the management program of the Republic of South Africa, to enhance the propagation or survival of the species.

John Verlander, El Paso, Texas; PRT-22943C

Corey Shaefer, Mountain Home, TX; PRT-24114C

B. Marine Mammals

Applicant: U.S. National Park Service, Juneau, AK; PRT-14762C

The applicant requests a permit to harass the Southeast Alaska stock of wild northern sea otters (Enhydra lutris kenyoni) through air and ground/vessel surveys for the purpose of scientific research. This notification covers activities to be conducted by the applicant over a 5-year period.

Concurrent with publishing this notice in the Federal Register, we are forwarding copies of the above applications to the Marine Mammal Commission and the Committee of Scientific Advisors for their review.

IV. Next Steps

If the Service decides to issue permits to any of the applicants listed in this notice, we will publish a notice in the Federal Register. You may locate the Federal Register notice announcing the permit issuance date by searching in www.regulations.gov under the permit number listed in this document.

V. Public Comments

You may submit your comments and materials concerning this notice by one of the methods listed in ADDRESSES. We will not consider comments sent by email or fax or to an address not listed in ADDRESSES.

If you submit a comment via http://www.regulations.gov, your entire comment, including any personal identifying information, will be posted on the Web site. If you submit a hardcopy comment that includes personal identifying information, you may request at the top of your document that we withhold this information from public review. However, we cannot guarantee that we will be able to do so.

We will post all hardcopy comments on http://www.regulations.gov.

VI. Authorities

Endangered Species Act of 1973, (16 U.S.C. 1531 et seq.);

Marine Mammal Protection Act of 1972 (16 U.S.C. 1361 et seq.).

Joyce Russell,
Government Information Specialist, Branch of Permits, Division of Management Authority.

[FR Doc. 2017-10853 Filed 5-25-17; 8:45 am]

BILLING CODE 4333-15-P